DEPARTMENT OF COMMERCE

National Oceanic and Atmospheric Administration

[I.D. 061704D]

New England Fishery Management Council; Public Meetings

National Marine Fisheries Service (NMFS), National Oceanic and Atmospheric Administration (NOAA), Commerce.

Notice of a public meeting.

The New England Fishery Management Council (Council) is scheduling a public meeting of its Social Sciences Advisory Committee in July, 2004 to consider actions affecting New England fisheries in the exclusive economic zone (EEZ). Recommendations from this group will be brought to the full Council for formal consideration and action, if appropriate.

The meeting will be held on Thursday, July 8, 2004, at 10 a.m.

The meeting will be held in Location: Holiday Inn, 31 Hampshire Street, Mansfield, MA 02048; telephone: (508) 339-2200.

Council address: New England Fishery Management Council, 50 Water Street, Mill 2, Newburyport, MA 01950.

FOR FURTHER INFORMATION CONTACT: Paul J. Howard, Executive Director, New England Fishery Management Council (978) 465-0492.

SUPPLEMENTARY INFORMATION: The Social Science Advisory Committee will meet to discuss progress and plans for reviewing Council actions.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting date.

Dated: June 18, 2004.
Alan D. Risenhoover,
Acting Director, Office of Sustainable Fisheries , National Marine Fisheries Service.

[FR Doc. E4-1390 Filed 6-22-04; 8:45 am]

BILLING CODE 3510-22-S